DEPARTMENT OF THE INTERIOR

Bureau of Land Management

[CO-923-1430-ET; COC-38723]

Notice of Proposed Withdrawal Extension and Opportunity for Public Meeting, Colorado

AGENCY: Bureau of Land Management, Interior.

ACTION: Notice.

SUMMARY: The Secretary of the Interior proposes to extend the duration of Public Land Order (PLO) No. 6733 for an additional 20-year period. PLO No. 6733 withdrew 100 acres of National Forest System land in Gunnison County, Colorado, from location and entry under the general mining laws for the protection of the Bureau of Reclamation Silver Jack Recreation Area. This notice gives the public an opportunity to comment on the proposed action and to request a public meeting.

DATES: Comments and requests for a public meeting must be received by June 5, 2007.

ADDRESSES: Comments and meeting requests should be sent to the State Director, Colorado State Office, Bureau of Land Management (BLM), 2850 Youngfield Street, Lakewood, Colorado 80215-7093.

FOR FURTHER INFORMATION CONTACT: John D. Beck, Branch of Lands and Realty, Colorado State Office, at 303-239-3882.

SUPPLEMENTARY INFORMATION: The withdrawal created by PLO No. 6733 (54 FR 30213) will expire July 18, 2009, unless extended by the Secretary of the Interior pursuant to section 204 of the Federal Land Policy and Management Act of 1976, 43 U.S.C. 1714. The public land withdrew 100 acres of National Forest land from the mining laws to protect the BOR Silver Jack Recreation Area. A legal description of the subject land can be found in the published public land order, and if requested, copies of the order will be provided by the BLM, Colorado State Office.

As extended, the withdrawal would not alter the applicability of those land laws governing the use of the land under lease, license, or permit, or governing the disposal of the mineral or vegetative resources other than under the mining laws.

The use of a right-of-way or a cooperative agreement would not provide adequate protection of the Federal investment in the area.

There are no suitable alternative sites as the described lands contain the facilities and resource values in need of protection. The withdrawal would not displace any existing uses.

Water rights will not be needed to fulfill the purpose of the requested withdrawal.

For a period of 90 days from the date of publication of this notice, all persons who wish to submit comments in connection with the proposed withdrawal extension may present their views in writing to the BLM, Colorado State Director at the address above. Comments, including names and street addresses of respondents, will be available for public review during regular business hours at the BLM Colorado State Office. Relevant BLM records as to the BOR application and comments, including names and street addresses of respondents, will be available for public review during regular business hours at the BLM Colorado State Office. Individuals may request confidentiality. If you wish to withhold your name or address from public review or from disclosure under the Freedom of Information Act, you must state this prominently at the beginning of your comments. Such requests will be honored to the extent allowed by law. All submissions from organizations or businesses, and from individuals identifying themselves as representatives or officials of organizations or businesses, will be made available for public inspection in their entirety.

Notice is hereby given that an opportunity for a public meeting is afforded in connection with the proposed withdrawal extension. All interested persons who desire a public meeting for the purpose of being heard on the proposed withdrawal extension must submit a written request to the BLM Colorado State Director at the address given above within 90 days from the publication of this notice. If the authorized officer determines a public meeting will be held, a notice of the time and place will be published in the Federal Register at least 30 days before the scheduled date of the meeting.

The withdrawal extension application will be processed in accordance with the regulations set forth in 43 CFR 2310.4.

(Authority: 43 CFR 2310.3-l (a)).

Dated: December 15, 2006.
John D. Beck,
Chief, Branch of Lands and Realty.

Editorial Note: This document was received at the Office of the Federal Register on March 2, 2007.

[FR Doc. E7-4069 Filed 3-6-07; 8:45 am]

BILLING CODE 4310-JB-P